DEPARTMENT OF HOUSING AND URBAN DEVELOPMENT

[Docket No. FR-7070-N-23]

30-Day Notice of Proposed Information Collection: Multifamily Housing Procedures for Projects Affected by Presidentially-Declared Disasters; OMB Control No.: 2502-0582

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: June 5, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Colette Pollard, Reports Management Officer, REE, Department of Housing and Urban Development, 451 7th Street SW, Washington, DC 20410; email Colette Pollard at PaperworkReductionActOffice@hud.gov or telephone 202-402-3400. This is not a toll-free number. HUD welcomes and is prepared to receive calls from individuals who are deaf or hard of hearing, as well as individuals with speech and communication disabilities. To learn more about how to make an accessible telephone call, please visit https://www.fcc.gov/consumers/guides/telecommunications-relay-service-trs. Copies of available documents submitted to OMB may be obtained from Ms. Pollard.

SUPPLEMENTARY INFORMATION: This notice informs the public that HUD is seeking approval from OMB for the information collection described in section A.

The Federal Register notice that solicited public comment on the information collection for a period of 60 days was published on November 18, 2022 at 87 FR 69288.

A. Overview of Information Collection

Title of Information Collection: Disaster Management.

OMB Approval Number: 2502-0582.

OMB Expiration Date: June 30, 2023.

Type of Request: Extension of currently approved collection.

Form Number: None.

Description of the need for the information and proposed use: Disaster relief is intended to provide an orderly and continuing means of assistance by the Federal Government to non-profit institutions in carrying out their responsibilities to alleviate the suffering and damage which result from such disasters. The purpose of this information collection is to ensure that owners follow HUD procedures, as laid out in HUD Housing Handbook 4350.1, chapter 38, regarding recovery efforts after a Presidentially declared disaster.” This information collection is used to ensure these procedures minimize disruption to HUD's normal business requirements by owners and set guidelines for owner/tenant responsibilities under these circumstances. Affected owners are provided instruction and assistance to respond with disaster management. Disaster Relief is limited to the period following a disaster event.

Respondents: Non-profit institutions.

Estimated Number of Respondents: 5,367.

Estimated Number of Responses: 5,367.

Frequency of Response: 1.

Average Hours per Response: 0.25.

Total Estimated Burden: 1,342.

B. Solicitation of Public Comment

This notice is soliciting comments from members of the public and affected parties concerning the collection of information described in section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond—including through the use of appropriate automated collection techniques or other forms of information technology, such as permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2023-09484 Filed 5-3-23; 8:45 am]

BILLING CODE 4210-67-P